DEPARTMENT OF COMMERCE

National Oceanic and Atmospheric Administration

[I.D. 060100A]

Marine Mammals; Scientific Research Permit (PHF# 522-1569-00)

AGENCY: National Marine Fisheries Service (NMFS), National Oceanic and Atmospheric Administration (NOAA), Commerce.

ACTION: Issuance of Permit.

SUMMARY: Notice is hereby given that Randall S. Wells, Ph.D, Sarasota Dolphin Research Program, c/o Mote Marine Laboratory, 1600 Ken Thompson Parkway, Sarasota, FL 34236, has been issued a permit to take bottlenose dolphins (Tursiops truncatus) for purposes of scientific research.

ADDRESSES: The permit and related documents are available for review upon written request or by appointment in the following offices:

Permits Division, Office of Protected Resources, NMFS, 1315 East-West Highway, Room 13130, Silver Spring, MD 20910 (301/713-2289); and

Regional Administrator, Southeast Region, 9721 Executive Center Drive, St. Petersburg, FL 33702-2432 (813/570-5312)

FOR FURTHER INFORMATION CONTACT: Trevor Spradlin, 301/713-2289.

SUPPLEMENTARY INFORMATION: On April 13, 2000, notice was published in the Federal Register (65 FR 19878) that a request for a scientific research permit had been submitted by the above-named individual to harass up to 120 Atlantic bottlenose dolphins (Tursiops truncatus) annually in Florida waters during the conduct of capture, examination, sampling, marking, and release activities, over a 5-year period. The requested permit has been issued under the authority of the Marine Mammal Protection Act of 1972, as amended (16 U.S.C. 1361 et seq.) and the Regulations Governing the Taking and Importing of Marine Mammals (50 CFR part 216), the Endangered Species Act of 1973, as amended (16 U.S.C. 1531 et seq.).

Dated: June 7, 2000.
Ann D. Terbush,
Chief, Permits and Documentation Division, Office of Protected Resources, National Marine Fisheries Service.

[FR Doc. 00-15855 Filed 6-21-00; 8:45 am]

BILLING CODE 3510-22-F